DEPARTMENT OF AGRICULTURE

Rural Housing Service

Notice of Availability of Funds; Multi-Family Housing, Single Family Housing; Correction

AGENCY: Rural Housing Service, USDA.

ACTION: Notice; correction.

SUMMARY: The Rural Housing Service is correcting a notice published March 20, 2006 [71 FR 14056-14070]. The action is taken to correct the listing of the State Office addresses on pages 14062 and 14063. The list is attached at the end of the document.

FOR FURTHER INFORMATION CONTACT: For information regarding this notice contact Robert Nelson, Management Analyst, Single Family Housing Direct Loan Division, telephone 202-720-0654, U.S. Department of Agriculture, 1400 Independence Ave., SW., Washington, DC 20250. (The telephone number listed is not toll free number).

Dated: March 23, 2006.
Russell T. Davis,
Administrator, Rural Housing Service.

BILLING CODE 3410-XV-P

[FR Doc. 06-3072 Filed 3-28-06; 8:45 am]

BILLING CODE 3410-XV-C